DEPARTMENT OF TRANSPORTATION

Federal Motor Carrier Safety Administration

[Docket No. FMCSA-2020-0117]

60-Day Notice of Renewal for Information Collection: Request for Renewal of Commercial Driver's License (CDL) Skills Testing Delays Annual Survey

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its renewal and invites public comment. This ICR is to collect data on the delays, by State, that applicants face when scheduling a CDL skills test. This information collection and subsequent data analysis is required by section 5506 of the Fixing America's Surface Transportation Act, 2015 (FAST Act). FMCSA reported the results of the initial ICR request in a report to congress titled “The Commercial Driver's License Skills Test Delays Report to Congress—CY 2016” available on FMCSA's web page located here: https://www.fmcsa.dot.gov/mission/policy/commercial-drivers-license-skills-test-delays-report-congress-cy-2016.

DATES: We must receive your comments on or before August 10, 2020.

ADDRESSES: You may submit comments identified by Federal Docket Management System (FDMS) Docket Number FMCSA- 2020-0117 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC, 20590-0001 between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Nicole Michel, Office of Analysis, Research, and Technology/Research Division, Department of Transportation, FMCSA, West Building 6th Floor, 1200 New Jersey Avenue SE, Washington, DC 20590. Telephone: 202-366-4354; email nicole.michel@dot.gov.

SUPPLEMENTARY INFORMATION: Background: Section 5506 of the FAST Act requires FMCSA to produce a study on CDL skills test delays on an annual basis. The requirements of the study are to submit an annual report describing:

“(A) the average wait time from the date an applicant requests to take a skills test to the date the applicant has the opportunity to complete such test;

(B) the average wait time from the date an applicant, upon failure of a skills test, requests a retest to the date the applicant has the opportunity to complete such retest;

(C) the actual number of qualified commercial driver's license examiners available to test applicants; and

(D) the number of testing sites available through the State department of motor vehicles and whether this number has increased or decreased from the previous year.”

The annual report is also required to describe “specific steps the Administrator is taking to address skills testing delays in States that have average skills test or retest wait times of more than 7 days.” If this information collection does not occur, FMCSA will not be able to continue to conduct the study on CDL skills test delays. This data collection aims to continue to create longitudinal data where currently there is none. If the information collection occurs on a less-than-annual basis, FMCSA will not be able to make observations on yearly trends or analyze differences between States.

For the initial 2017 survey FMCSA met with several stakeholders, including the American Association of Motor Vehicle Administrators, the Commercial Vehicle Training Association, and State Driver Licensing Agencies to ensure the information being collected was not already collected elsewhere and was not available to FMCSA. FMCSA conducted extensive background research to ensure the study was not duplicative. A previous study, done by the Government Accountability Office (GAO) in 2015, asked for similar information but did not produce specific enough data to be used in this study.

The survey will continue to be sent out via email, with the option for online completion using SurveyMonkey® or Qualtrics. Each State can continue to respond via email or the online survey tool depending on which method is more convenient for the respondent. The welcome letter will continue to indicate that FMCSA prefers responses via the online survey tool.

The information collected will continue to be published annually in a report to the Committee on Commerce, Science, and Transportation of the Senate and the Committee on Transportation and Infrastructure of the House of Representatives.

Title: Request for Renewal of Commercial Driver's License (CDL) Skills Testing Delays Annual Survey.

OMB Control Number: 2126-0065.

Type of Request: Renewal.

Respondents: State CDL Coordinators (one from each of the 50 States, and one from Washington, DC).

Estimated Number of Respondents: 51.

Estimated Time per Response: 2.3 hours (137.5 minutes).

Expiration Date: February 28, 2019.

Frequency of Response: Annually.

Estimated Total Annual Burden: The annual burden is estimated to be no more than 2.3 hours (137.5 minutes) per respondent, which equates to 116.9 hours over the universe of 51 respondents. This estimate contains a maximum of 2 hours to gather information from State information systems, and an estimated maximum of 17.5 minutes to respond to the survey. While States that already track and report similar information may need much less than 2 hours to gather information, discussions with subject matter experts led to an agreement that 2 hours was a reasonable maximum time limit to use to estimate the maximum annual burden expected.

The estimate time for survey completion was calculated using Versta Research's methodology for calculating an estimate of survey length, where each question is given a number of points based on the estimated burden required to respond to the question (for example, simple multiple choice questions are 1 point, whereas short answer questions are 3 points per expected short phrase). The total number of points for all questions is then divided by eight (the number of simple questions a user can respond to online in 1 minute) to determine the estimate required length for finishing the survey.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued under the authority of 49 CFR 1.87.
Kenneth Riddle,
Acting Associate Administrator, Office of Research and Registration.

[FR Doc. 2020-12567 Filed 6-9-20; 8:45 am]

BILLING CODE 4910-EX-P